DEPARTMENT OF STATE

[Public Notice: 10715]

In the Matter of the Review and Amendment of the Designation of ISIS (and Other Aliases) as a Foreign Terrorist Organization Pursuant to the Immigration and Nationality Act, as Amended

Based upon a review of the Administrative Record assembled pursuant to Section 219 of the Immigration and Nationality Act, as amended (8 U.S.C. 1189) (“INA”), and in consultation with the Attorney General and the Secretary of the Treasury, I conclude that the circumstances that were the basis for the designation of the aforementioned organization (and other aliases) as a Foreign Terrorist Organization have not changed in such a manner as to warrant revocation of the designation, and that the national security of the United States does not warrant a revocation of the designation. I also conclude that there is a sufficient factual basis to find that the aforementioned organization (and other aliases) uses the additional aliases: Amaq News Agency and Al Hayat Media Center, also known as Al-Hayat Media Center, also known as Al Hayat.

Therefore, I hereby determine that the designation of the aforementioned organization (and other aliases) as a Foreign Terrorist Organization, pursuant to Section 219 of the INA, as amended (8 U.S.C. 1189), shall be maintained. Additionally, pursuant to Section 219(b) of the INA, as amended (8 U.S.C. 1189(b)), I hereby amend the designation of the aforementioned organization as a Foreign Terrorist Organization to include the following new aliases: Amaq News Agency and Al Hayat Media Center, also known as Al-Hayat Media Center, also known as Al Hayat.

This determination shall be published in the Federal Register.

Dated: December 21, 2018.
Michael R. Pompeo,
Secretary of State.

[FR Doc. 2019-05565 Filed 3-21-19; 8:45 am]

BILLING CODE 4710-AD-P